EXPORT-IMPORT BANK

Sunshine Act Meetings

Notice of Open Meeting of the Advisory Committee of the Export-Import Bank of the United States (EXIM).

TIME AND DATE: Wednesday, October 18, 2023, from 4:30-6:00 p.m. EDT.

PLACE: Washington Hilton Hotel, 1919 Connecticut Ave. NW, Washington, DC 20009.

STATUS: Public Participation: The meeting will be open to public participation and time will be allotted for questions or comments. Members of the public may also file written statements before or after the meeting to external@exim.gov. Interested parties may contact India Walker at india.walker@exim.gov to confirm attendance.

MATTERS TO BE CONSIDERED: Discussion of EXIM policies and programs to provide competitive financing to expand United States exports and comments for inclusion in EXIM's Report to the U.S. Congress on Global Export Credit Competition.

CONTACT PERSON FOR MORE INFORMATION: For further information, contact India Walker, External Enagagement Specialist, at 202-480-0062 or at india.walker@exim.gov.

Joyce B. Stone,
Assistant Corporate Secretary.

[FR Doc. 2023-22455 Filed 10-5-23; 11:15 am]

BILLING CODE 6690-01-P